DEPARTMENT OF ENERGY

Federal Energy Regulatory Commission

[Project Nos. 2576-022 and 2597-019-Connecticut]

Northeast Generation Company; Notice of Intent To Prepare an Environmental Impact Statement

October 19, 2001.

On August 31, 1999, the Federal Energy Regulatory Commission (Commission) received an application for a New Major License for the Housatonic River Project located on the Housatonic River in Fairfield, New Haven, and Litchfield counties, Connecticut. The application for a New Major License for the Falls Village Project (P-2576) and the Housatonic Project (P-2597) proposes to combine the two projects into a single licensed project, the Housatonic River Project. Approximately 74 acres of land are within project boundaries. The project would include five developments with a total installed capacity of 114.9 megawatts.

Public scoping meetings were held on December 4, 6, and 7, 2000, in Falls Village, New Milford, and Hartford, Connecticut, respectively. Following scoping and based on preliminary environmental analysis of the Housatonic River Project, the Commission staff has determined that licensing of the Housatonic River Project could constitute a major federal action significantly affecting the quality of the human environment. Therefore, the staff intends to prepare an Environmental Impact Statement (EIS) for the Housatonic River Project in accordance with the National Environmental Policy Act (NEPA). The EIS will consider both site-specific and cumulative environmental impacts and reasonable alternatives to the proposed action.

Commission staff prepared the Scoping Document 2 (SD2) to provide the public with information on: (1) the proposed action and alternatives; (2) the environmental analysis process staff will follow to prepare the EIS; and (3) a revised list of issues to be addressed in the EIS. Copies of the SD2 were distributed to the Commission's service and mailing lists for this project. The SD2 may also be viewed on the Internet at http://www.ferc.gov, and then using the “RIMS” link, select “Docket #” and follow the instructions (call 202-208-2222 for assistance).

A draft EIS will be issued and circulated for review by all interested parties. All comments filed on the draft EIS will be analyzed by the Commission staff and considered in the final EIS. The staff's conclusions and recommendations will then be presented for the consideration of the Commission in reaching its final licensing decision.

This application is not ready for environmental analysis at this time, therefore we are not soliciting terms and conditions at this time.

This notice informs all interested individuals, organizations, and agencies with environmental expertise and concerns, that: (1) the Commission staff has decided to prepare an EIS; and (2) that the scoping conducted on the Housatonic River Project for the Environmental Assessment (EA) and comments filed with the Commission still apply.

If you have any questions regarding this notice, please contact Jarrad Kosa, FERC Team Leader, at (202) 219-2831.

Linwood A. Watson, Jr.,
Acting Secretary.

[FR Doc. 01-26855 Filed 10-24-01; 8:45 am]

BILLING CODE 6717-01-P